FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than February 3, 2020.

A. Federal Reserve Bank of Chicago (Colette A. Fried, Assistant Vice President) 230 South LaSalle Street, Chicago, Illinois 60690-1414:

1. The DMB Corporation, Inc. Employee Stock Ownership Plan, DeForest, Wisconsin, Bradley Schroeder, DeForest, Wisconsin; Rhonda Gilbertson, Pardeeville, Wisconsin; and Rachel Larson, Columbus, Wisconsin, as co-trustees; and as members of a group acting in concert with State Bank of Cross Plains, Cross Plains, Wisconsin, as custodian for the Heather L. Schroeder Individual Retirement Account; Bradley Schroeder and Heather Schroeder, both of DeForest, Wisconsin; Kevin Gilbertson and Rhonda Gilbertson, both of Pardeeville, Wisconsin; and Aaron Larson and Rachel Larson, both of Columbus, Wisconsin, to retain voting shares of DMB Corporation, Inc., and thereby indirectly retain voting shares of DMB Community Bank, both of DeForest, Wisconsin.

Board of Governors of the Federal Reserve System, January 14, 2020.
Yao-Chin Chao,
Assistant Secretary of the Board.

[FR Doc. 2020-00750 Filed 1-16-20; 8:45 am]

BILLING CODE P